DEPARTMENT OF JUSTICE

Notice of Lodging of Proposed Consent Decree Under the Clean Water Act

On August 2, 2021, the Department of Justice lodged a proposed consent decree with the United States District Court for the Northern District of West Virginia (Clarksburg Division) in the lawsuit entitled United States of America et al. v. LPG Land & Development Corporation, No. 1:21-cv-33-TSK.

The United States and the State of West Virginia, by and through the West Virginia Department of Environmental Protection, filed this lawsuit against LPG Land & Development Corporation (“Defendant”), pursuant to the Clean Water Act and the West Virginia Water Pollution Control Act. The United States and West Virginia seek injunctive relief and civil penalties from the Defendant for violations relating to the discharge of pollutants into waters of the United States without a permit, and in violation of a permit, at the Mon Fayette Industrial Park located in Morgantown, West Virginia. The proposed consent decree resolves these allegations by requiring the Defendant to purchase mitigation bank credits and pay a civil penalty of $125,000 (with half paid to the United States and the other half paid to the State).

The publication of this notice opens a period for public comment on the consent decree. Comments should be addressed to the Assistant Attorney General, Environment and Natural Resources Division, and should refer to United States of America et al. v. LPG Land & Development Corporation, D.J. Ref. Nos. 90-5-1-1-20587 & 90-5-1-1-20587/1. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, D.C. 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611

Please enclose a check or money order for $108.50 (25 cents per page reproduction cost) payable to the United States Treasury. For a paper copy without the appendices, the cost is $12.75.

Susan Akers,
Assistant Section Chief, Environmental Enforcement Section, Environment and Natural Resources Division.

[FR Doc. 2021-16974 Filed 8-9-21; 8:45 am]

BILLING CODE 4410-15-P